DEPARTMENT OF HEALTH AND HUMAN SERVICES

Delegation of Authority

AGENCY: Office of the Assistant Secretary for Preparedness and Response, Department of Health and Human Services.

ACTION: Notice.

Notice is hereby given that I have delegated heads of an Operating Division or Staff Division that implement programs authorized under the Public Health Service (PHS) Act, the authorities vested in the Secretary of Health and Human Services under Sections 319(e) of PHS Act, as amended.

The authorities in section 319(e) of the PHS Act may be re-delegated as needed. These authorities shall be exercised in coordination with the Assistant Secretary for Preparedness and Response. These authorities shall be exercised under the Department's policy on regulations and the existing delegation of authority to approve and issue regulations.

I hereby affirm and ratify any actions taken by heads of an Operating Division or Staff Division that implement programs authorized under the Public Health Service (PHS) Act, that involved the exercise of the authorities delegated herein prior to the effective date of this delegation.

This delegation is effective immediately.

Dated: October 24, 2014.
Sylvia M. Burwell,
Secretary, Department of Health and Human Services.

[FR Doc. 2014-26056 Filed 10-31-14; 8:45 am]

BILLING CODE 4150-37-P